DEPARTMENT OF THE INTERIOR

Bureau of Land Management

[AK-930-5420-FR-L036; FF-94614 and FF-94615]

Notice of Applications for Recordable Disclaimers of Interest for Lands Underlying the Nabesna River and the Chisana River in Alaska

AGENCY: Bureau of Land Management, Interior.

ACTION: Notice.

SUMMARY: The State of Alaska has filed applications for recordable disclaimers of interest in certain lands underlying the Nabesna River and the Chisana River in Alaska by the United States.

DATES: Comments on the State of Alaska's applications should be submitted on or before August 15, 2006. Comments on the BLM Draft Summary Report should be submitted on or before July 17, 2006.

ADDRESSES: Comments should be sent to the Chief, Branch of Lands and Realty, BLM Alaska State Office, 222 West 7th Avenue #13, Anchorage, Alaska 99513-7599.

FOR FURTHER INFORMATION CONTACT: Jack Frost at 907-271-5531 or you may visit the BLM recordable disclaimer of interest Web site at http://www.ak.blm.gov.

SUPPLEMENTARY INFORMATION: On October 3, 2005, the State of Alaska (State) filed applications for recordable disclaimers of interest pursuant to Section 315 of the Federal Land Policy and Management Act and the regulations contained in 43 CFR subpart 1864 for lands underlying Nabesna River (FF-94614), approximately 85 river miles, and Chisana River (FF-94615), approximately 116 river miles. The Nabesna and Chisana Rivers are both located within the Tanana River region of Alaska. A recordable disclaimer of interest, if issued, will confirm the United States has no valid interest in the subject lands. The notice is intended to notify the public of the pending applications and the State's grounds for supporting it. The State asserts that the Nabesna and Chisana Rivers are navigable and under the Equal Footing Doctrine, Submerged Lands Act of 1953, Alaska Statehood Act, and the Submerged Lands Act of 1988, ownership of these submerged lands automatically passed from the United States to the State at the time of statehood in 1959.

The State's application for Nabesna River (FF-94614) is for “all submerged lands lying within the bed of the Nabesna River, between the ordinary high water lines of the left and right banks, from its origins at the Nabesna Glacier within Township 5 North, Ranges 13 and 14 East, Copper River Meridian, Alaska, downstream to its confluence with the Tanana River in Township 15 North, Range 19 East, Copper River Meridian, Alaska.” The State's application for Chisana River (FF-94615) is for “all submerged lands lying within the bed of Chisana River between the ordinary high water lines of the left and right banks from its origin at the Chisana Glacier within Township 3 North, Range 17 East, Copper River Meridian, Alaska, downstream to its confluence with the Tanana River in Township 15 North, Range 19 East, Copper River Meridian, Alaska.” The Chisana River application also includes the unnamed channel that connects Mark Creek with the Chisana River in Township 14 North, Ranges 19 and 20 East, Copper River Meridian, Alaska. The State did not identify any known adverse claimant or occupant of the affected lands.

A final decision on the merits of the applications will not be made before August 15, 2006. During the 90-day period, interested parties may comment upon the State's applications, FF-94614 and FF-94615, and supporting evidence. Interested parties may comment on the evidentiary evidence presented in the BLM's Draft Summary Report on or before July 17, 2006.

Comments, including names and street addresses of commenters, will be available for public review at the Alaska State Office (see address above), during regular business hours 7:30 a.m. to 4:30 p.m., Monday through Friday, except holidays. Individual respondents may request confidentiality. If you wish to hold your name or address from disclosure under the Freedom of Information Act, you must state this prominently at the beginning of your comments. Such requests will be honored to the extent allowed by law. All submissions from organizations or businesses will be made available for public inspection in their entirety.

Dated: February 28, 2006.
Russell D. Blome,
Acting Chief, Branch of Lands and Realty.

[FR Doc. E6-7401 Filed 5-15-06; 8:45 am]

BILLING CODE 4310-JA-P